DEPARTMENT OF HOMELAND SECURITY

8 CFR Parts 103 and 299

[CIS No. 2074-00; DHS Docket No. USCIS-2005-0013]

RIN 1615-AB19

Establishment of a Genealogy Program; Correcting Amendment

AGENCY: U.S. Citizenship and Immigration Services, DHS.

ACTION: Correcting amendment.

SUMMARY: With this amendment, the Department of Homeland Security (DHS) corrects an inadvertent error in the amendatory language from the Establishment of a Genealogy Program Final Rule published in the Federal Register on May 15, 2008.

DATES: This correction is effective January 16, 2009.

FOR FURTHER INFORMATION CONTACT: Lynda Spencer, Genealogy Program, U.S. Citizenship and Immigration Services, Department of Homeland Security, 1200 First Street, NE., 2nd Floor, Washington, DC 20529-2206, telephone (202) 272-8282.

SUPPLEMENTARY INFORMATION:

Need for Correction

On May 15, 2008, the Department of Homeland Security (DHS) published a final rule in the Federal Register at 73 FR 28026 establishing a fee-for-service Genealogy Program within U.S. Citizenship and Immigration Services (USCIS) to streamline and improve the process for acquiring historical records of deceased individuals. There was an inadvertent error in that document. In the amendatory language for amendment 2b at 73 FR 28030, DHS inadvertently revised the fifth sentence to 8 CFR 103.7(c)(1) instead of the sixth sentence. As a result the fifth sentence in 8 CFR 103.7(c)(1) is incorrect. This document corrects the error.

List of Subjects

8 CFR Part 103

Administrative practice and procedure, Authority delegations (Government agencies), Freedom of Information, Privacy, Reporting and recordkeeping requirements, Surety bonds.

8 CFR Part 299

Immigration, Reporting and recordkeeping requirements.

Accordingly, chapter I of title 8 of the Code of Federal Regulations is amended as follows:

PART 103—POWERS AND DUTIES; AVAILABILITY OF RECORDS

1. The authority citation for part 103 continues to read as follows:

Authority: 5 U.S.C. 301, 552, 552a; 8 U.S.C. 1101, 1103, 1304, 1356; 31 U.S.C. 9701; Public Law 107-296, 116 Stat. 2135 (6 U.S.C. 1 et seq.), E.O. 12356, 47 FR 14874, 15557, 3 CFR, 1982 Comp., p. 166; 8 CFR part 2.

2. Section 103.7(c)(1) is amended by revising the fifth and sixth sentences to read as follows:

§ 103.7 Fees.

* * * * *

(c) * * *

* * * The payment of the additional sum prescribed by section 245(i) of the Act when applying for adjustment of status under section 245 of the Act may not be waived. The fees for Form I-907, Request for Premium Processing Services, and for Forms G-1041 and G-1041A, Genealogy Program request forms, may not be waived.

* * * * *

Dated: January 13, 2009.
Michael Aytes,
Acting Deputy Director.

[FR Doc. E9-912 Filed 1-15-09; 8:45 am]

BILLING CODE 9111-97-P